DEPARTMENT OF ENERGY

Federal Energy Regulatory Commission

[Docket No. RP02-463-001]

Portland Natural Gas Transmission System; Notice of Compliance Filing

October 16, 2002.

Take notice that on October 10, 2002, Portland Natural Gas Transmission System (PNGTS) tendered for filing as part of its FERC Gas Tariff, Original Volume No. 1, First Revised Sheet No. 324 and Sub. Third Revised Sheet No. 380. The proposed effective date of these revised tariff sheets is October 1, 2002.

PNGTS states that, pursuant to section 154.402 of the Commission's regulations, it is filing the referenced tariff sheet to comply with a letter order issued in the captioned docket by the FERC on September 30, 2002.

PNGTS states that copies of its filing were served on all jurisdictional customers and interested state commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-26952 Filed 10-22-02; 8:45 am]

BILLING CODE 6717-01-P